DEPARTMENT OF AGRICULTURE

Submission for OMB Review; Comment Request

September 2, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Weather Radio Transmitter Grant Program.

OMB Control Number: 0572-0124.

Summary of Collection: Under the authorization of Public Law 106-387 (FY 2001 Appropriations Act), made approximately $5 million in grant funds available to facilitate the expansion of the National Oceanic and Atmospheric Administration's (NOAA) Weather Radio and Alert System into rural areas that are not covered or poorly covered. The National Weather Service operates an All Hazards Early Warning System that alerts people in areas covered by its transmissions of approaching dangerous weather and other emergencies. The National Weather Service can typically provide warnings of specific weather dangers up to fifteen minutes prior to the event. At present, many rural areas lack NOAA Weather Radio coverage. The Weather Radio Transmitter Grant Program will provide grant funds for use in rural areas and communities of 50,000 or less inhabitants. The grant funds will be processed on a first-come basis until the appropriation is used in its entirety.

Need and Use of the Information: RUS will use the information from the submission to determine the following: (1) That adequate coverage in the area does not already exist and that the proposed coverage will meet the needs of the community; (2) that design requirements are met; and (3) that the funds needed to complete the project are adequate based on the grant and the matching portion from the applicant.

Description of Respondents: Not for-profit institutions; State, Local or Tribal Government.

Number of Respondents: 5.

Frequency of Responses: Reporting: On occasion.

Total Burden Hours: 38.

Rural Utility Service

Title: Servicing of Water Programs Loans and Grants.

OMB Control Number: 0572-0137.

Summary of Collection: Authority for servicing of Water Programs Loan and Grants is contained in Section 306e of the Consolidated Farm and Rural Development Act, as amended. The information collected covers loan and grant servicing regulations, 7 CFR part 1782, which prescribes policies and responsibilities for servicing actions necessary in connection with Water and Environmental Programs (WEP) loans and grants. WEP provides loans, guaranteed loans and grants for water, sewer, storm water, and solid waste disposal facilities in rural areas and towns of up to 10,000 people.

Need and Use of the Information: The Rural Utilities Service will collect information using various forms. The collected information for the most part is financial in nature and needed by the Agency to determine if borrowers, based on their individual situations, qualify for the various servicing authorities. Servicing actions become necessary due to the development of financial or other problems and may be initiated by either a recipient which recognizes that a problem exists and wished to resolve it, or by the Agency. If a problem exists, a recipient must furnish financial information which is used to aid in resolving the problem through reamortization, sale, transfer, debt restructuring, liquidation, or other means provided in the regulations.

Description of Respondents: Business or other for-profit; non-profit institutions; State and local governments.

Number of Respondents: 493.

Frequency of Responses: Reporting: On occasion.

Total Burden Hours: 651.

Charlene Parker,
Departmental Information Collection Clearance Officer.

[FR Doc. 2010-22368 Filed 9-7-10; 8:45 am]

BILLING CODE 3410-15-P